DEPARTMENT OF STATE

[Public Notice: 7051]

Meeting To Learn of U.S. Information and Communications Technologies (ICT) Industry Efforts To Assist Haitian Relief and Reconstruction Efforts Following the January 2010 Earthquake

AGENCY: Department of State.

ACTION: Notice of a meeting.

SUMMARY: The United States Coordinator for International Communications and Information Policy (CIP) will hold a public meeting on July 9, 2010 from 1:30 p.m. to 3:30 p.m. (with additional time available through 4:30 p.m. if needed) in the Loy Henderson Auditorium of the Harry S. Truman Building of the U.S. Department of State. The Truman Building is located at 2201 C Street, NW., Washington, DC 20520.

The Office of the U.S. Coordinator (CIP) advocates international policies for expanded access to information and communication technologies (ICT), improved efficiency in the worldwide ICT and telecommunications market through increased reliance on free-market forces, and fair opportunities for U.S. companies to participate in this important sector around the globe.

The meeting will be led by Ambassador Philip L. Verveer, the U.S. Coordinator for International Communications and Information Policy and facilitated by Deputy U.S. Coordinator Steven Lett. The meeting's agenda will focus on learning about the experiences of U.S. information and communications technologies (ICT) industry infrastructure manufacturers and service providers that responded to the earthquake in Haiti to understand: (1) What assistance U.S. ICT-related companies provided to help stabilize, maintain, or rebuild ICT and other vital capabilities in Haiti; (2) The experiences of U.S. ICT-related companies that volunteered assistance, and (3) The international disaster-response capabilities U.S. ICT-related companies have in place, or plan to implement.

Participation by members of the public, non-profit/non-governmental organizations and corporations is encouraged. In addition, presentations on the experiences of ICT-related enterprises/organizations in, or directly related to, Haiti relief and reconstruction are invited, but will be limited to five minutes. Planned presentations for the meeting must be received by the CIP meeting contact (contact information below) by June 30, along with an indication of any requirements for multimedia equipment. Written comments (apart from presentations and specifically not for distribution) may be submitted through the day of the meeting. Resource limitations may preclude acknowledging or replying to submissions. As time permits, an opportunity at the end of the meeting will be provided for an interactive discussion amongst participants.

While the meeting is open to the public, admittance to the Department of State building is only by means of a pre-clearance. For placement on the pre-clearance list, please submit the following information no later than 5 p.m. on Tuesday, July 6, 2010. (Please note that this information is not retained by CIP and must therefore be re-submitted for any subsequent CIP-related meetings):

I. State that you are requesting pre-clearance to this meeting.

II. Provide the following information:

1. Name of meeting and its date and time

2. Visitor's full name

3. Date of birth

4. Citizenship

5. Acceptable forms of identification for entry into the U.S. Department of State include:

• U.S. driver's license with photo

• Passport

• U.S. government agency ID

6. ID number on the form of ID that the visitor will show upon entry

7. Whether the visitor has a need for reasonable accommodation. Such requests received after June 30th might not be possible to fulfill.

Send the above information to Joseph Burton by fax (202) 647-7407 or email BurtonKJ@state.gov.

All visitors for this meeting must use the 23rd Street entrance. The valid ID bearing the number provided with your pre-clearance request will be required for admittance. Non-U.S. government attendees must be escorted by Department of State personnel at all times when in the building.

FOR FURTHER INFORMATION CONTACT: Joseph Burton, Foreign Affairs Officer, Office of Communications and Information Policy at (202) 647-5231 or BurtonKJ@state.gov.

General information about CIP is available: http://www.state.gov/e/eeb/cip/.

Dated: June 15, 2010.
Joseph Burton,
Communications and Information Policy, Department of State.

[FR Doc. 2010-14784 Filed 6-17-10; 8:45 am]

BILLING CODE 4710-07-P